DEPARTMENT OF THE INTERIOR

Fish and Wildlife Service

[FWS-R1-ES-2019-N070; FXES11140100000-190-FF01E00000]

Incidental Take Permit Application To Participate in the Douglas County Multiple Species General Conservation Plan, Douglas County, Washington

AGENCY: Fish and Wildlife Service, Interior.

ACTION: Notice of availability; request for comments.

SUMMARY: We, the U.S. Fish and Wildlife Service (Service), have received an application from Davis and Davis Farms (applicant) for an Endangered Species Act (ESA) incidental take permit (ITP) in association with the Douglas County Multiple Species General Conservation Plan (GCP). The applicant agrees to implement conservation measures consistent with the GCP that will minimize and mitigate the impacts of the taking on the Columbia Basin distinct population segment of the pygmy rabbit, the greater sage-grouse, the Washington ground squirrel, and the Columbian sharp-tailed grouse. Covered activities include dryland farming of wheat and horse grazing on the Davis and Davis farm in Douglas County, Washington. We invite the public to review and comment on the permit application and associated documents.

DATES: To be fully considered, written comments from interested parties must be received on or before August 16, 2019.

ADDRESSES: To request further information or submit written comments, please use one of the following methods, and note that your information request or comments are in reference to the “Davis and Davis Farms GCP Permit:”

• Internet Document Review: You may access electronic copies of the GCP and associated decision documents online at https://www.fws.gov/wafwo/.

• Comment or Request Documents by Email: Include “Davis and Davis Farms-GCP Permit” in the subject line of the message and send to wfwocomments@fws.gov.

• Comment or Request Documents by U.S. Mail or Comment by Hand-Delivery: Public Comments Processing, Attn: FWS-R1-ES-2019-N070; U.S. Fish and Wildlife Service; c/o Jessica Gonzales, Central Washington Field Office; 215 Melody Lane, Suite 103; Wenatchee, WA 98801. Printed copies of the permit application and associated documents are available for public inspection, by appointment, during normal business hours, at this address.

FOR FURTHER INFORMATION CONTACT: Jessica Gonzales, Fish and Wildlife Biologist, U.S. Fish and Wildlife Service, Central Washington Field Office (see ADDRESSES); telephone 509-665-3508, extension 2000; email Jessica_Gonzales@fws.gov. If you use a telecommunications device for the deaf, please call the Federal Relay Service at 800-877-8339.

SUPPLEMENTARY INFORMATION: We, the U.S. Fish and Wildlife Service (Service), have received an application from Davis and Davis Farms (applicant) for an Endangered Species Act (ESA; 16 U.S.C. 1531 et seq.) incidental take permit (ITP), in association with the Douglas County Multiple Species General Conservation Plan (GCP). The GCP was developed by the Foster Creek Conservation District in coordination with the Service. The purpose of the GCP is to facilitate an efficient and effective process for prospective applicants to obtain ITPs addressing land-use activities, take of listed species, and conservation measures that are covered under the GCP, in order to offset the impacts of take on covered species. A GCP is a programmatic habitat conservation plan, authorized under section 10(a)(1)(B) of the ESA.

In this case, the applicant agrees to implement conservation measures consistent with the GCP that will minimize and mitigate the impacts of the taking on the following covered species: The federally endangered Columbia Basin distinct population segment of the pygmy rabbit (Brachylagus idahoensis), the Federal candidate greater sage-grouse (Centrocercus urophasianus), the Federal candidate Washington ground squirrel (Urocitellus washingtoni), and the unlisted species Columbian sharp-tailed grouse (Tympanuchus phasianellus columbianus). Covered activities include dryland farming of wheat and horse grazing on the Davis and Davis farm in Douglas County, Washington. We invite the public to review and comment on the permit application and associated documents.

Background

Section 9 of the Endangered Species Act (ESA; 16 U.S.C. 1531) prohibits “take” of fish and wildlife species listed as endangered or threatened. Section 10(a)(1)(B) of the ESA, along with Service policy dated October 5, 2007, on GCPs, allows the Service to issue ITPs to non-Federal entities for incidental take of endangered or threatened species that is caused by otherwise lawful activities, providing the following criteria are met: (1) The taking will be incidental; (2) the applicant will, to the maximum extent practicable, minimize and mitigate the impact of such taking; (3) the applicant will ensure that adequate funding for the plan will be provided; (4) the taking will not appreciably reduce the likelihood of the survival and recovery of the species in the wild; and (5) the applicant will carry out any other measures that the Service may require as being necessary or appropriate for the purposes of the plan. Regulations governing permits for endangered and threatened species are found in 50 CFR 17.22 and 17.32, respectively.

The Service has conducted a review of the site plan submitted with the ITP application and has made a preliminary determination that the site plan meets all necessary requirements of the Douglas County Multiple Species GCP and is consistent with previous environmental analyses and decision documents associated with the GCP.

The GCP and an associated environmental assessment (EA), developed pursuant to the requirements of the National Environmental Policy Act (42 U.S.C. 4321 et seq.), were made available for public review during a 60-day public comment period between November 14, 2014, and January 13, 2015 (79 FR 68289). The Service finalized the EA in June of 2015, and a finding of no significant impact (FONSI) was signed on September 17, 2015. Findings and recommendations addressing the issuance of future ITPs for activities covered under the GCP were also signed on September 17, 2015. The Service will not make a final permit decision until after the end of the 30-day comment period, following full consideration of all comments received.

Proposed Action

The Service proposes to issue the requested 47-year ITP based on the applicant's commitment to implement the site plan prepared pursuant to the requirements of the GCP, if permit issuance criteria are met. Covered activities include dryland farming of wheat and horse grazing. The area covered under the proposed ITP encompasses about 4,017 acres owned and leased by Davis and Davis Farm within the area covered by the GCP in Douglas County, Washington.

Take of the following covered species is likely to occur in conjunction with activities covered under the GCP: The Columbia Basin distinct population segment of pygmy rabbit, the greater sage-grouse, the Washington ground squirrel, and the Columbian sharp-tailed grouse. Such take is expected to occur on the following lands owned or leased by Davis and Davis Farms: 710.8 acres of shrub-steppe habitat; 2,576.2 acres of agriculture lands (dryland and irrigated agriculture); and 730.4 acres of Conservation Reserve Program/State Acres For Wildlife Enhancement (CRP/SAFE) shrub-steppe habitat that might be converted to dry-land or irrigated crop production in the future. These acreages are surrogates for the anticipated amount of incidental take and are within the amounts considered in the EA and FONSI, and the Biological Opinion/Conference Opinion addressing the issuance of ITPs in association with implementation of the GCP.

As a GCP participant, Davis and Davis Farms will aid in covered species recovery through implementation of conservation measures resulting in appropriate grazing management, maintenance of existing shrub-steppe habitat, implementation of timing restrictions, notification to the Service prior to conversion of occupied CRP/SAFE habitat, and additional measures. The GCP also includes criteria to evaluate CRP/SAFE acres, and other protected land acres across Douglas County, and if those acres decrease below certain thresholds, the Foster Creek Conservation District will work with the Service and others to address the decrease, or revisit the GCP. With implementation of the site plan, we do not anticipate CRP/SAFE acres threshold criteria will be triggered or changes in the numbers, distribution, or reproduction of the covered species will appreciably reduce the likelihood of their survival and recovery in the wild.

Public Comments

You may submit your comments and materials by one of the methods listed in the ADDRESSES section. We specifically request written information, views and suggestions with respect to the application for the incidental take permit.

Public Availability of Comments

All comments and materials we receive become part of the public record associated with this action. Before including your address, phone number, email address, or other personally identifiable information in your comments, you should be aware that your entire comment—including your personally identifiable information—may be made publicly available at any time. While you can ask us in your comment to withhold your personally identifiable information from public review, we cannot guarantee that we will be able to do so. All submissions from organizations or businesses, and from individuals identifying themselves as representatives or officials of organizations or businesses, will be made available for public disclosure in their entirety. Comments and materials we receive, as well as supporting documentation, will be available for public inspection by appointment, during normal business hours, at our Washington Fish and Wildlife Office (see ADDRESSES).

Next Steps

The Service previously approved the GCP, and recommended approval of future permit applications developed consistent with the GCP, concluding that such permits would meet the issuance criteria for ITPs, and would not result in significant effects to the human environment. After public review, we will evaluate the permit application, associated documents, and any comments received, to confirm that the permit application meets the requirements of section 10(a)(1)(B) of the ESA and the GCP. We will also evaluate whether issuance of the requested ITP would comply with section 7 of the ESA by conducting an intra-Service section 7 consultation under section 7(a)(2) of the ESA on anticipated ITP actions. In addition, we will evaluate whether issuance of the requested ITP will be consistent with the finding of no significant impact under NEPA issued in relation to the GCP. As noted above, we will not make a final permit decision until after the end of the 30-day comment period, and we will fully consider all comments received during the comment period. If we determine that all requirements are met we will issue an ITP to the applicant for the take of the covered species, incidental to otherwise lawful covered activities implemented under the site plan prepared in accordance with the GCP.

Authority

We provide this notice in accordance with the requirements of section 10 of the ESA and its implementing regulations (50 CFR 17.22) and NEPA and its implementing regulations (40 CFR 1506.6).

Robyn Thorson,
Regional Director, Pacific Region, U.S. Fish and Wildlife Service.

[FR Doc. 2019-15220 Filed 7-16-19; 8:45 am]

BILLING CODE 4333-15-P